DEPARTMENT OF AGRICULTURE

Submission for OMB Review; Comment Request

April 7, 2022.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 12, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Cold Storage Survey.

OMB Control Number: 0535-0001.

Summary of Collection: The primary objective of the National Agricultural Statistics Service (NASS) is to collect, prepare, and issue State and national estimates of crop and livestock production, prices, and disposition; as well as economic statistics, environmental statistics related to agriculture and also to conduct the Census of Agriculture.

The monthly Cold Storage Survey provides information on national supplies of food commodities in refrigerated storage facilities. A biennial survey of refrigerated warehouse capacity is also conducted to provide a benchmark of the capacity available for refrigerated storage of the nation's food supply. Information on stocks of food commodities that are in refrigerated facilitates have a major impact on the price, marketing, processing, and distribution of agricultural products.

Need and Use of the Information: These data will be collected under authority of 7 U.S.C. 2204(a). Individually identifiable data collected under this authority are governed by Section 1770 of the Food Security Act of 1985 as amended, 7 U.S.C. 2276, which requires USDA to afford strict confidentiality to non-aggregated data provided by respondents. USDA agencies such as the World Agricultural Outlook Board, Economic Research Service, and Agricultural Marketing Service use this information from the Cold Storage report in setting and administering government commodity programs and in supply and demand analysis. Included in the report are stocks of pork bellies, frozen orange juice concentrate, butter, and cheese which are traded on the Chicago Board of Trade. The timing and frequency of the surveys have evolved to meet the needs of producers, facilities, agribusinesses, and government agencies.

Description of Respondents: Business or other for-profit.

Number of Respondents: 1,266.

Frequency of Responses: Reporting: Monthly; Annually.

Total Burden Hours: 5,069.

National Agricultural Statistics Service

Title: List Sampling Frame Survey.

OMB Control Number: 0535-0140.

Summary of Collection: The primary objective of the National Agricultural Statistics Service is to prepare and issue State and national estimates of crop and livestock production, economic statistics, environmental statistics related to agriculture and also to conduct the Census of Agriculture. The List Sampling Frame Surveys are used to develop and maintain a complete list of possible farm and ranch operations. The goal is to produce for each State a relatively complete, current, and unduplicated list of names for statistical sampling for agricultural operation surveys and the Census of Agriculture. Data from these agricultural surveys are used by government agencies and educational institutions in planning, farm policy analysis, and program administration. More importantly, farmers and ranchers use NASS data to help make informed business decisions on what commodities to produce and when is the optimal time to market their products. NASS data is useful to farmers in comparing their farming practices with the economic and environmental data published by NASS.

Need and Use of the Information: These data will be collected under the authority of 7 U.S.C. 2204(a). Individually identifiable data collected under this authority are governed by Section 1770 of the Food Security Act of 1985 as amended, 7 U.S.C. 2276, which requires USDA to afford strict confidentiality to non-aggregated data provided by respondents. The List Sampling Frame Surveys are used to develop and maintain a complete list of possible farm operations. Data from criteria surveys are used to provide control data for new records on the list sampling frame. This information is utilized to define the size of operation, define sample populations, and establish eligibility for the Census of Agriculture. New names and addresses of potential farms are obtained on a regular basis from growers association, other government agencies and various outside sources. The goal is to produce for each State a relatively complete, current, and unduplicated list of names for statistical sampling for agricultural operation surveys and the Census of Agriculture. This information is used to develop efficient sample designs, which allows NASS the ability to draw reduced sample sizes from the originally large universe populations.

Description of Respondents: Business or other for-profit; Farms.

Number of Respondents: 255,000.

Frequency of Responses: Reporting: Annually.

Total Burden Hours: 55,797.

National Agricultural Statistics Service

Title: Custom Work Survey.

OMB Control Number: 0535-0266.

Summary of Collection: The primary objective of the National Agricultural Statistics Service (NASS) is to collect, prepare, and issue state and national estimates of crop and livestock production, prices, and disposition; as well as economic statistics, environmental statistics related to agriculture; and also, to conduct the Census of Agriculture.

The Custom Works program will survey farmers who potentially paid for custom services during a specified reference period to collect information on how much they paid for those services. These services include land tillage, application of fertilizers and chemicals, planting, harvesting, hauling, various livestock tasks, and many more tasks. The program will provide farm operators with estimates of the average prices paid for different custom services in their state and/or local area.

Need and Use of the Information: Data collected under this docket are for cooperative agreements between the National Agricultural Statistics Service (NASS) and numerous cooperators including, but not limited to: Alabama Department of Agriculture, Georgia Department of Agriculture, Kansas Department of Agriculture, Mississippi Delta Research and Extension Center, Nebraska Department of Agriculture, North Dakota State University, Oklahoma State University, Pennsylvania Department of Agriculture, South Carolina Department of Agriculture, and Wisconsin Department of Agriculture, Trade, and Consumer Protection. The purpose of the survey is to collect custom rates from agricultural workers.

Description of Respondents: Business or other for-profit; Farms.

Number of Respondents: 41,500.

Frequency of Responses: Reporting: Annually.

Total Burden Hours: 15,027.

National Agricultural Statistics Service

Title: Cooperator Funded Chemical Use Surveys.

OMB Control Number: 0535-NEW.

Summary of Collection: The chemical use data collection activities in this clearance request would be conducted through cooperative agreements with State Departments of Agriculture, land-grant universities, or other organizations with which NASS has a Memorandum of Understanding (MOU). Previously, these collections were included in the Agricultural Resource Management and Chemical Use Surveys Information Collection Request (OMB Control Number 0535-0218). These cooperator funded chemical use surveys are being separated out to allow flexibility for survey changes and possible new surveys without affecting the surveys funded through USDA's Congressional appropriation. The surveys in the Information Collection Request allow flexibility for the cooperators to best address current trends in the farming industry within States.

Need and Use of the Information: The Field Crop Production Practice and Chemical Use Surveys in this request will be conducted to meet research and publication goals for Extension and State Departments of Agriculture described in question one.

The summarized and published information will be analyzed by the sponsoring cooperators and stakeholders in agriculture. Results will be used to study

—production agriculture as well as

—various programs and policies to determine their impact on agricultural producers and consumers.

Description of Respondents: Businesses or other for-profits and Farms.

Number of Respondents: 24,585.

Frequency of Responses: Reporting; Annually.

Total Burden Hours: 11,882.

Levi Harrell,
Departmental Information Collection Clearance Officer.

[FR Doc. 2022-07781 Filed 4-11-22; 8:45 am]

BILLING CODE 3410-20-P